DEPARTMENT OF AGRICULTURE

Forest Service

Fishlake National Forest, Utah, EIS for Oil and Gas Leasing

AGENCY: Forest Service, USDA and Bureau of Land Management, USDI.

ACTION: Notice of intent to prepare an environmental impact statement.

SUMMARY: The Forest Service of the Fishlake National Forest gives notice of the intent to prepare an environmental impact statement (EIS) to document the analysis and disclose the environmental and human effects of oil and gas leasing on lands administered by the Fishlake National Forest. The Federal Onshore Oil and Gas Leasing Reform Act of 1987 (FOOGLRA) requires the Forest Service to evaluate National Forest System lands for potential oil and gas leasing.

As the agency responsible for lease issuance and administration, the Bureau of Land Management (BLM) will participate as a cooperating agency.

DATES: Comments concerning the scope of the analysis should be received by August 10, 2006 to be most helpful. The draft environmental impact statement is scheduled for completion by the winter of 2006, and the final environmental impact statement is expected before summer of 2007.

ADDRESSES: Send written comments to: Carter Reed, Oil and Gas Team Leader, Fishlake National Forest, 115 East 900 North, Richfield, UT 84701; phone: (435) 636-3547; fax: (435) 896-0347; e-mail comments-intermtn-fishlake@fs.fed.us. Please include ``Oil and Gas Leasing Analysis Project'' on the subject line.

FOR FURTHER INFORMATION CONTACT: Davida Carnahan, Public Affairs Officer, 115 East 900 North, Richfield, UT 84701; phone: (435) 896-1070.

For technical information contact: Carter Reed, Oil and Gas Team Leader, (435) 636-3547.

SUPPLEMENTARY INFORMATION:

Purpose and Need for Action

FOOGLRA requires the Forest Service to evaluate National Forest System (NFS) lands for potential oil and gas leasing and establishes Forest Service consent authority for leasing prior to the BLM offering NFS lands for lease. Since the FOOGLRA was signed into law, there has been little industry interest in leasing the lands administered by the Fishlake National Forest, and no leasing has been authorized by the Fishlake National Forest; however, interest has recently escalated due to the increased demand for oil and gas, high prices, and discoveries of oil and gas reserves in other areas with similar geologic conditions. The BLM Utah State Office has received numerous Expressions of Interest for leasing portions of the Fishlake National Forest.

Proposed Action

The Forest Supervisor of the Fishlake National Forest and Utah State Director, Bureau of Land Management propose to conduct the analysis and decide which lands to make available for oil and gas leasing. The analysis area includes lands administered by the Fishlake National Forest. As part of the analysis, the Forest Service will identify those areas that would be available for leasing subject to the terms and conditions of the standard oil and gas lease form, or subject to constraints that would require the use of lease stipulations such as those prohibiting surface occupancy. The analysis will also: (1) Identify alternatives to the proposed action, including that of not allowing leasing (no action), (2) project the type/amount of post-leasing activity that is reasonably foreseeable, and (3) analyze the reasonably foreseeable impacts of projected post-leasing activity [36 CFR 228.102(c)].

Possible Alternatives

All alternatives studied in detail must fall within the scope of the purpose and need for action and will generally tier to and comply with the Fishlake forest plan. Law requires evaluation of a ``no-action alternative''. Under the No Action/No Lease alternative, no oil and gas leasing would occur. Alternatives to be evaluated would range from the No Action/No Lease alternative (most restrictive) to the Standard Lease Terms alternative (least restrictive) where all lands legally open to leasing would be made administratively available for leasing with only the standard BLM terms and conditions contained on BLM Lease Form 3100-11. Other alternatives which fall somewhere between the No Action/No Leasing alternative and Lease with Standard Terms alternative would also be developed and evaluated, which would involve making some lands unavailable for leasing and other lands available for leasing with lease stipulations for the protection of other resources and interests.

The Forest is expecting that the public input will generate either thematic concerns or area-specific issues that may be addressed by modifying the proposed action to create a new alternative or alternatives.

Lead and Cooperating Agencies

The Forest Service is the lead agency. The Bureau of Land Management will participate as a cooperating agency.

Responsible Officials

Mary Erickson, Forest Supervisor, Fishlake National Forest, 115 East 900 North, Richfield, UT 84701, Acting Utah State Director, Bureau of Land Management.

Nature of Decision To Be Made

The Forest Supervisor, Fishlake National Forest, will decide which lands administered by the Fishlake National Forest will be administratively available for oil and gas leasing, along with associated conditions or constraints for the protection of non-mineral interests [36 CFR 228.102(d)]. The Forest Supervisor will also authorize the BLM to offer specific lands for lease, subject to the Forest Service ensuring that the required stipulations are attached to the leases [36 CFR 228.102(e)].

The BLM is responsible for issuing and administration of oil and gas leases under the Mineral Leasing Act of 1920, as amended, and Federal Regulations in 43 CFR 3101.7. The BLM Utah State Director must decide whether or not to offer for lease specific lands authorized for leasing by the Fishlake National Forest and with what stipulations.

Scoping Process

The first formal opportunity to comment on the Fishlake National Forest Oil and Gas Leasing Analysis Project is during the scoping process (40 CFR 1501.7), which begins with the issuance of this Notice of Intent.

Mail comments to: Carter Reed, Oil and Gas Team Leader, Fishlake National Forest, 115 East 900 North, Richfield, UT 84701.

The Forest Service requests comments on the nature and scope of the environmental, social, and economic issues, and possible alternatives related to oil and gas leasing on lands administered by the Fishlake National Forest.

A series of public opportunities are scheduled to describe the proposal and to provide an opportunity for public input. Six scoping meetings are planned.

July 17: 7 p.m. to 9 p.m., Beaver Ranger District, 575 South Main, Beaver, Utah.

July 18: 7 p.m. to 9 p.m., Piute Event Center, 180 W. 500 N., Junction, Utah.

July 19: 7 p.m. to 9 p.m., Loa Civic Center, 95 W. Center, Loa, Utah.

July 20: 7 p.m. to 9 p.m., Millard High School, 35 N. 200 W., Fillmore, Utah.

August 1: 7 p.m. to 9 p.m., Snow College, Room 147C, Richfield, Utah.

August 2: 7 p.m. to 9 p.m., American Legion Hall, 50 S. State St., Salina, Utah.

Written comments will be accepted at these meetings. The Forest Service will work with tribal governments to address issues that would significantly or uniquely affect them.

Preliminary Issues

Important goals for the project are to meet the legal requirements for evaluating National Forest System lands and make the required decisions. The intent of the applicable laws and regulations (see Summary) are to lease appropriate National Forest System lands and provide a reasonable opportunity to explore for, discover, and produce economic oil and gas reserves from available Federal lands, while meeting the requirements of environmental laws and protecting other resources and interests not compatible with such activities. Issues are anticipated to involve potential effects to wildlife, water, vegetation, recreation, public safety, roadless character, visual resources, cultural and paleontological resources, and social and economic settings. Specific issues will be developed through review of public comments and internal review.

Comment Requested

This Notice of Intent initiates the scoping process which guides the development of the environmental impact statement. The Forest has also received substantial input at public meetings held for the Forest Plan revision, including issues relative to mineral exploration and development. Through these efforts the Forest has an understanding of the broad range of perspectives on the resource issues and social values attributed to resource activities on the Fishlake National Forest. Consequently site-specific comments or concerns are the most important types of information needed for this EIS. Because the Oil and Gas Leasing EIS is a stand-alone document, only public comment letters which address relevant issues and concerns will be considered and formally addressed in an appendix in the FEIS.

Early Notice of Importance of Public Participation in Subsequent Environmental Review

A draft environmental impact statement will be prepared for comment. The comment period on the draft environmental impact statement is expected to be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by providing comments during scoping comment period and during the comment period following the draft EIS so that substantive comments and objections are made available to the Forest Service at a time when it can meaningfully consider them and respond to them in the final environmental impact statement.

To assist the Forest Service in identifying and considering issues and concerns on the proposed action, comments should be as specific as possible. Reviewers may wish to refer to the Council on Environmental Quality Regulations for implementing the procedural provisions of the National Environmental Policy Act at 40 CFR 1503.3 in addressing their points.

Comments received, including the names and addresses of those who comment, will be considered part of the public record on this proposal and will be available for public inspection.

(Authority: 40 CFR 1501.7 and 1508.22; Forest Service Handbook 1909.15, Section 21.)

Dated: June 27, 2006.
Mary C. Erickson,
Fishlake Forest Supervisor.

[FR Doc. 06-5950 Filed 7-6-06; 8:45 am]

BILLING CODE 3410-11-M